COMMITTEE FOR PURCHASE FROM PEOPLE WHO ARE BLIND OR SEVERELY DISABLED

Procurement List; Proposed Additions

AGENCY: Committee for Purchase From People Who Are Blind or Severely Disabled.

ACTION: Proposed additions to the Procurement List.

SUMMARY: The Committee is proposing to add services to the Procurement List that will be provided by nonprofit agencies employing persons who are blind or have other severe disabilities.

Comments Must Be Received on or Before: 6/6/2011.

ADDRESSES: Committee for Purchase From People Who Are Blind or Severely Disabled, Jefferson Plaza 2, Suite 10800, 1421 Jefferson Davis Highway, Arlington, Virginia 22202-3259.

FOR FURTHER INFORMATION CONTACT or to Submit Comments Contact: Barry S. Lineback, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will provide the services to the Government.

2. If approved, the action will result in authorizing small entities to provide the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to the Procurement List for production by the nonprofit agencies listed:

Services

Service Type/Location: Dining Facility Attendant and Cook Support Service, Army 7th Special Forces Group, Building 4570, Eglin AFB, FL.

NPA: Lakeview Center, Inc., Pensacola, FL.

Contracting Activity: Dept of the Army, W6QM Ft Bragg Contr Ctr, Fort Bragg, NC.

For this project, the DOD contracting activity specifically identified its requirement as Dining Facility Attendant (DFA) and Cook Support Service in its Performance Work Statement (PWS). The dining facility (DFAC) associated with this service requirement is newly constructed and will be under the control and military management of the 7th Special Forces Group. Food service personnel assigned to the Group will operate and manage the DFAC and will be augmented by contractor-provided DFA.

The PWS describes the DFA service tasks as preparation of vegetables, dining room service (prepare, maintain, clean dining areas; clean condiment containers; clean spills and remove soiled dinnerware; clean dining room tables, chairs, booths; clean dining room walls, baseboards, window ledges, doors, doorframes, ceiling fans, pictures, wall art, artificial plants, light fixtures, etc); buss and replace tray carts during meal serving periods; service and maintain patron self-service area; clean and sanitize food service equipment, utensil cleaning, and dishwashing; clean pots, pans, utensils, storage shelves, and racks; facility maintenance and sanitation; and provide trash and garbage service.

Because the 7th Special Forces Group is a deployable, combat unit, it may be absent from Eglin AFB as its mission and training dictates. Cook support will be required when troop strength is under 75% due to training/deployment/re-deployment. At a minimum, cook support will augment 25% of the military manpower at all times, but is not anticipated to exceed 50% of the required military manpower. The military will retain management and operational control during deployments as a Government (civil service) contracting officer's representative will assume those duties. At no time will the AbilityOne nonprofit agency contractor be responsible for the management and operational control of the DFAC.

Service Type/Location: Custodial and Grounds Service, White Sands Missile Range, NM.

NPA: Tresco, Inc., Las Cruces, NM.

Contracting Activity: Dept of the Army, W6QM White Sands Doc, White Sands Missile Range, NM.

Service Type/Location: Janitorial/Custodial Service, San Francisco Maritime National Historical Park, Building E, Lower Fort Mason, San Francisco, CA.

NPA: Toolworks, Inc., San Francisco, CA.

Contracting Activity: Dept of the Interior, National Park Service, Pacific West Region, Oakland, CA.

Service Type/Location: Facilities Maintenance Service, Department of Public Works, Fort Knox, KY.

NPAs: NISH, Vienna, VA (Prime), Lakeview Center, Pensacola, FL (Subcontractor).

Contracting Agency: Mission And Installation Contracting Command Center, Fort Knox, KY.

Barry S. Lineback,
Director, Business Operations.

[FR Doc. 2011-11099 Filed 5-5-11; 8:45 am]

BILLING CODE 6353-01-P